FEDERAL COMMUNICATIONS COMMISSION

47 CFR Part 73

[MB Docket No. 08-150; RM-11390; DA 12-512]

Radio Broadcasting Services; Asbury and Maquoketa, IA, and Mineral Point, WI

AGENCY: Federal Communications Commission.

ACTION: Proposed rule; dismissal.

SUMMARY: The Audio Division dismisses the petition for rule making filed by KM Radio of Independence, LLC, proposing the allotment of Channel 238A at Mineral Point, Wisconsin, and the substitution of reserved Channel *254A for reserved vacant Channel *238A at Asbury, Iowa, 73 FR 50,297, and terminates the proceeding.

FOR FURTHER INFORMATION CONTACT: Deborah Dupont, Media Bureau, (202) 418-2180.

SUPPLEMENTARY INFORMATION: This is a synopsis of the Commission's Report and Order, MB Docket No. 08-150, adopted April 2, 2012, and released April 2, 2012. The full text of this Commission decision is available for inspection and copying during normal business hours in the FCC Information Center, Portals II, 445 12th Street SW., Room CY-A257, Washington, DC 20554. The complete text of this decision also may be purchased from the Commission's duplicating contractor, Best Copy and Printing, Inc., 445 12th Street SW., Room CY-B402, Washington, DC 20554, (800) 378-3160, or via the company's Web site, www.bcpiweb.com. The Report and Order is not subject to the Congressional Review Act, and therefore the Commission will not send a copy of it in a report to be sent to Congress and the Government Accountability Office, see U.S.C. 801(a)(1)(A).

Federal Communications Commission.
Nazifa Sawez,
Assistant Chief, Audio Division, Media Bureau.

[FR Doc. 2012-9401 Filed 4-18-12; 8:45 am]

BILLING CODE 6712-01-P